DEPARTMENT OF COMMERCE

National Oceanic and Atmospheric Administration

RIN 0648-XC407

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Advisory Panel on January 9, 2013, to consider actions affecting New England fisheries in the exclusive economic zone (EEZ). Recommendations from this group will be brought to the full Council for formal consideration and action, if appropriate.

DATES: This meeting will be held on Wednesday, January 9, 2013 at 9 a.m.

ADDRESSES:

Meeting address: The meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: In Amendment 6 to the Monkfish Fishery Management Plan, the New England and Mid-Atlantic Councils are considering a range of possible changes to the management system, including modifications to the current system, incorporation of monkfish into groundfish sectors and/or individually transferrable quotas (ITQs). The Advisory Panel will review the Amendment 6 draft document, focusing on the section pertaining to modifications to the current days-at-sea (DAS) trip limit management system, including alternatives for establishing a monkfish DAS leasing program. The recommendations of the Advisory Panel will be forwarded to the Monkfish Committee which will meet at a later date.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: December 17, 2012.
Tracey L. Thompson,
Acting Deputy Director, Office of Sustainable Fisheries, National Marine Fisheries Service.

[FR Doc. 2012-30708 Filed 12-20-12; 8:45 am]

BILLING CODE 3510-22-P